DEPARTMENT OF TRANSPORTATION

Office of the Secretary

Notice of Applications for Certificates of Public Convenience and Necessity and Foreign Air Carrier Permits Filed Under Subpart B (Formerly Subpart Q) During the Week Ending September 24, 2011

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2011-0179.

Date Filed: September 19, 2011.

Due Date for Answers, Conforming Applications, or Motion to Modify Scope: October 11, 2011.

Description: Application of Federal Express Corporation (“FedEx Express”) requesting an amendment to its certificate of public convenience and necessity for Route 568 to engage in scheduled foreign air transportation of property and mail between a point or points in the United States and a point or points in Mexico. FedEx Express also requests an exemption to the extent necessary, authorizing scheduled foreign air transportation of property and mail (1) between Memphis, Tennessee, and Mobile, Alabama, on the one hand and Queretaro, Mexico, on the other hand, as of October 17, 2011 and (2) between Indianapolis, Indiana and Guadalajara, Mexico also as of October 17, 2011.

Docket Number: DOT-OST-2011-0180.

Date Filed: September 20, 2011.

Due Date for Answers, Conforming Applications, or Motion to Modify Scope: October 12, 2011.

Description: Application of Blue Panorama Airlines, S.p.A. (“Blue Panorama”) requesting a foreign carrier permit and exemption authority authorizing Blue Panorama to conduct operations to and from the United States to the full extent authorized by the United States-European Union Air Transportation Agreement (“U.S.-E.U. Agreement”), including authority to engage in: (i) Scheduled and charter foreign air transportation of persons, property and mail from any point(s) behind any Member State(s) of the European Community, via any point(s) in any Member State(s) and via intermediate points to any point(s) in the United States and beyond; (ii) scheduled and charter foreign air transportation of persons, property and mail between any point(s) in the United States and any point(s) in any member of the European Common Aviation Area; (iii) other charters; and (iv) transportation authorized by any additional route or other right(s) made available to European Community carriers in the future.

Docket Number: DOT-OST-2011-0183.

Date Filed: September 21, 2011.

Due Date for Answers, Conforming Applications, or Motion to Modify Scope: October 13, 2011.

Description: Application of Icelandair ehf. (“lcelandair”) requesting the Department amend its foreign air carrier permit so that it can exercise new rights recently made available to Icelandic air carriers pursuant to the Air Transport Agreement between the United States of America and the European Union and its Member States and Iceland and Norway. lcelandair also requests an exemption to the extent necessary to enable it to provide the services covered by this application while lcelandair's request for an amended foreign air carrier permit is pending.

Renee V. Wright,
Program Manager, Docket Operations, Federal Register Liaison.

[FR Doc. 2011-28882 Filed 11-7-11; 8:45 am]

BILLING CODE 4910-9X-P